DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of one individual and four entities whose property and interests in property have been blocked pursuant to the Foreign Narcotics Kingpin Designation Act (Kingpin Act) (21 U.S.C. 1901-1908, 8 U.S.C. 1182). Additionally, OFAC is publishing additions to the identifying information for one individual previously designated pursuant to the Kingpin Act.

DATES: The designations by the Acting Director of OFAC of the one individual and four entities identified in this notice pursuant to section 805(b) of the Kingpin Act are effective on December 16, 2015.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security, may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On December 16, 2015, the Acting Director of OFAC designated the following individual and four entities whose property and interests in property are blocked pursuant to section 805(b) of the Kingpin Act.

Individual

1. LIBIEN TELLA, Naim, Paseo San Carlos 319, Fracc. San Carlos, Metepec, Mexico 52140, Mexico; Vicente Guerrero 304, Toluca, Mexico 50110, Mexico; Paseo Tollocan 613 Oriente, Colonia Valle Verde, Toluca, Mexico, Mexico; DOB 30 May 1970; POB Toluca, Mexico, Mexico; R.F.C. LITN-700530-6N0 (Mexico); C.U.R.P. LITN700530HMCBLM01 (Mexico); I.F.E. LBTLNM70053015000 (Mexico) (individual) [SDNTK] (Linked To: AEROLINEAS AMANECER, S.A. DE C.V.; Linked To: DIARIO AMANECER; Linked To: UNOMASUNO; Linked To: VALGO GRUPO DE INVERSION S.A. DE C.V.). Designated for materially assisting in, or providing support for or to, or providing goods or services in support of, the international narcotics trafficking activities of Abigael GONZALEZ VALENCIA and/or the LOS CUINIS DRUG TRAFFICKING ORGANIZATION (DTO), and/or acting for or on behalf of Abigael GONZALEZ VALENCIA and/or the LOS CUINIS DTO and therefore meets the statutory criteria for designation pursuant to sections 805(b)(2) and/or (3) of the Kingpin Act, 21 U.S.C. 1904(b)(2) and/or (3).

Entities

1. AEROLINEAS AMANECER, S.A. DE C.V. (a.k.a. AEROAMANECER), Hangar 6 Zona C., Aviacion Gral. S/N, Toluca, Mexico 50200, Mexico; Paseo Tollocan 802 Poniente, Toluca de Lerdo, Estado de Mexico 50000, Mexico; Folio Mercantil No. 3613-17 (Mexico) [SDNTK]. Designated for being controlled or directed by, or acting for or on behalf of, Naim LIBIEN TELLA and therefore meets the statutory criteria for designation pursuant to section 805(b)(3) of the Kingpin Act, 21 U.S.C. 1904(b)(3).

2. DIARIO AMANECER, Paseo Tollocan 613 Ote., Col. Valle Verde, Toluca, Estado de Mexico C.P. 50130, Mexico; Gabino Barreda No. 86, Col. San Rafael, Del. Cuauhtemoc, Mexico, Distrito Federal C.P. 06470, Mexico; Web site www.diarioamanecer.com.mx [SDNTK]. Designated for being owned, controlled, or directed by, or acting for or on behalf of, Naim LIBIEN TELLA and therefore meets the statutory criteria for designation pursuant to section 805(b)(3) of the Kingpin Act, 21 U.S.C. 1904(b)(3).

3. UNOMASUNO (a.k.a. UNO MAS UNO), Gabino Barreda No. 86, Col. San Rafael, Del. Cuauhtemoc, Mexico, Distrito Federal C.P. 06470, Mexico; Web site www.unomasuno.com.mx [SDNTK]. Designated for materially assisting in, or providing support for or to, or providing goods or services in support of, the international narcotics trafficking activities of the LOS CUINIS DTO and/or Abigael GONZALEZ VALENCIA, and/or is owned, controlled, or directed by, or acting for or on behalf of Naim LIBIEN TELLA and therefore meets the statutory criteria for designation pursuant to sections 805(b)(2) and/or (3) of the Kingpin Act, 21 U.S.C. 1904(b)(2) and/or (3).

4. VALGO GRUPO DE INVERSION S.A. DE C.V., Avenida Bogota 3007, Colonia Circunvalacion Americas, Guadalajara, Jalisco CP 44630, Mexico; Folio Mercantil No. 22071 (Mexico) [SDNTK]. Designated for being owned, controlled, or directed by, or acting for or on behalf of, Abigael GONZALEZ VALENCIA and/or Naim LIBIEN TELLA and therefore meets the statutory criteria for designation pursuant to section 805(b)(3) of the Kingpin Act, 21 U.S.C. 1904(b)(3).

Additionally, OFAC is publishing additions to the identifying information for the following individual previously designated pursuant to the Kingpin Act.

1. GONZALEZ VALENCIA, Abigael (a.k.a. GOMEZ FLORES, Luis Angel; a.k.a. GONZALEZ VALENCIA, Abigail; a.k.a. GONZALEZ VALENCIA, Luis Angel; a.k.a. TAK TOLEDO, Jonathan Paul; a.k.a. TAK TOLEDO, Paul Jonathan); DOB 18 Oct 1972; alt. DOB 28 Oct 1979; POB Aguililla, Michoacan, Mexico; alt. POB Apatzingan, Michoacan, Mexico; alt. POB Guadalajara, Jalisco, Mexico; Gender Male; C.U.R.P. GOVA721018HMNNLB07 (Mexico); alt. C.U.R.P. GOFL721018HJCMLS02 (Mexico); alt. C.U.R.P. GOVL721018HMNNLS08 (Mexico); Passport JX755855 (Canada) (individual) [SDNTK] (Linked To: LOS CUINIS).

The listing for this individual now appears as follows:

1. GONZALEZ VALENCIA, Abigael (a.k.a. GOMEZ FLORES, Luis Angel; a.k.a. GONZALEZ VALENCIA, Abigail; a.k.a. GONZALEZ VALENCIA, Luis Angel; a.k.a. TAK TOLEDO, Jonathan Paul; a.k.a. TAK TOLEDO, Paul Jonathan), Paseo Royal Country 5395-31, Fraccionamiento Royal Country, Zapopan, Jalisco, Mexico; DOB 18 Oct 1972; alt. DOB 28 Oct 1979; POB Aguililla, Michoacan, Mexico; alt. POB Apatzingan, Michoacan, Mexico; alt. POB Guadalajara, Jalisco, Mexico; Gender Male; C.U.R.P. GOVA721018HMNNLB07 (Mexico); alt. C.U.R.P. GOFL721018HJCMLS02 (Mexico); alt. C.U.R.P. GOVL721018HMNNLS08 (Mexico); Passport JX755855 (Canada) (individual) [SDNTK] (Linked To: LOS CUINIS; Linked To: VALGO GRUPO DE INVERSION S.A. DE C.V.).

Dated: December 16, 2015.
John E. Smith,
Acting Director, Office of Foreign Assets Control.

[FR Doc. 2015-31960 Filed 12-18-15; 8:45 am]

BILLING CODE 4810-AL-P